DEPARTMENT OF COMMERCE

International Trade Administration

[A-475-059]

Pressure Sensitive Plastic Tape From Italy; Final Results of the Second Sunset Review of Antidumping Duty Finding

AGENCY: Import Administration, International Trade Administration, Department of Commerce.

ACTION: Notice of final results of the second expedited sunset review of antidumping finding on pressure sensitive plastic tape from Italy.

SUMMARY: On January 2, 2004, the Department of Commerce (“the Department”) published the notice of initiation of sunset review on Pressure Sensitive Plastic Tape (“PSPT”) from Italy. On the basis of the notice of intent to participate, and adequate substantive comments filed on behalf of a domestic interested party and inadequate response (in this case, no response) from respondent interested parties, we determined to conduct an expedited (120-day) sunset review. As a result of this review, we find that revocation of the antidumping duty finding would be likely to lead to continuation or recurrence of dumping at the levels listed below in the section entitled “Final Results of Review.”

EFFECTIVE DATE: May 11, 2004.

FOR FURTHER INFORMATION CONTACT: Alessandra Cortez or Ozlem Koray, Office of Policy for Import Administration, International Trade Administration, U.S. Department of Commerce, 14th Street and Constitution Avenue, NW., Washington, DC 20230; telephone: (202) 482-5925 or (202) 482-3675.

SUPPLEMENTARY INFORMATION:

Background

On January 2, 2004, the Department published the notice of initiation of sunset review of the antidumping duty finding on PSPT from Italy pursuant to section 751(c) of the Tariff Act of 1930, as amended (the “Act”).¹ The Department received the notice of intent to participate on behalf of 3M Company (“3M”), a domestic interested party, within the deadline specified in section 351.218(d)(1)(I) of the Department's Regulations (“Sunset Regulations”). 3M claimed interested party status under section 771(9)(C) of the Act as a U.S. producer of a domestic like product. We received a complete substantive response from 3M within the 30-day deadline specified in the Sunset Regulations under section 351.218(d)(3)(i).

¹ Initiation of Five-Year (Sunset) Reviews, 69 FR 50 (January 2, 2004).

We did not receive a substantive response from any interested party respondents in this proceeding. As a result, pursuant to section 751(c)(3)(B) of the Act and 19 CFR 351.218(e)(1)(ii)(C)(2), the Department conducted an expedited (120-day) sunset review of this finding.

Scope of Review

The products covered in this review are shipments of PSPT measuring over one and three-eights inches in width and not exceeding four millimeters in thickness. The above described PSPT is classified under HTS subheading 3919.90.50.² On May 7, 1992, the Department issued a scope ruling on highlighting “note tape” and determined that it was not within the scope of the finding. See Scope Rulings, 57 FR 19602 (May 7, 1992). The HTS subheadings are provided for convenience and for customs purposes. The written description remains dispositive.

² HTS number 3919.90.20 was incorrectly included in the first sunset review, but later determined to be an invalid number. Pressure Sensitive Plastic Tape From Italy, USITC Pub. 3157, p. I-4, fn. 8 (February 1999).

Analysis of Comments Received

All issues raised in this case by 3M are addressed in the “Issues and Decision Memorandum” (“Decision Memo”) from Ronald K. Lorentzen, Acting Director, Office of Policy, Import Administration, to James J. Jochum, Assistant Secretary for Import Administration, dated May 3, 2004, which is hereby adopted by this notice. The issues discussed in the Decision Memo include the likelihood of continuation or recurrence of dumping and the magnitude of the margin likely to prevail if the finding were to be revoked. Parties can find a complete discussion of all issues raised in this review and the corresponding recommendations in this public memorandum, which is on file in room B-099 of the main Commerce Building.

In addition, a complete version of the Decision Memo can be accessed directly on the Web at http://ia.ita.doc.gov/frn, under the heading “May 2004.” The paper copy and electronic version of the Decision Memorandum are identical in content.

Final Results of Review

We determine that revocation of the antidumping duty finding on PSPT from Italy would be likely to lead to continuation or recurrence of dumping at the following percentage weighted-average margins:

Italy manufacturers/exporters/producers weighted average | Margin percent
Comet SARA, S.p.A | 10
Manuli Autoadesivi (Manuli) | *10
All Others | 10
* Tyco Adhesives Italia S.p.A became a successor-in-interest company to Manuli Tapes S.p.A. See Final Results of Antidumping Duty Changed Circumstances Review: Pressure Sensitive Plastic Tape from Italy, 69 FR 15297 (March 25, 2004).

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: May 3, 2004.
Joseph A. Spetrini,
Acting Assistant Secretary for Import Administration.

[FR Doc. E4-1074 Filed 5-10-04; 8:45 am]

BILLING CODE 3510-DR-P